ENVIRONMENTAL PROTECTION AGENCY

[FRL-6994-6]

EPA Science Advisory Board; Request for Nominations for the Arsenic Rule Benefits Review Panel; and Notification of Public Advisory Committee Meetings and Request for Nominations for the Advisory Council on Clean Air Compliance Analysis (Council)

ACTION: Request for nominations to the Arsenic Rule Benefits Review Panel of the Environmental Protection Agency's (EPA) Science Advisory Board (SAB).

SUMMARY: The U.S. Environmental Protection Agency (EPA) Science Advisory Board is announcing the formation of an Arsenic Rule Benefits Review Panel (hereinafter, the “Panel”) and soliciting nominations to this Panel. The EPA Science Advisory Board was established to provide independent scientific and technical advice, consultation, and recommendations to the EPA Administrator on the technical bases for EPA regulations. In this sense, the Board functions as a technical peer review panel.

Any interested person or organization may nominate qualified individuals for membership on the Panel. Nominees should be identified by name, occupation, position, address and telephone number. To be considered, all nominations must include a current resume providing the nominee's background, experience and qualifications.

Background

Following the January 22, 2001 Federal Register promulgation of the arsenic rule, a number of issues were raised to EPA by States, public water systems, and others regarding the adequacy of science and the basis for national economic analyses informing decisions about the rule. Because of the importance of the arsenic rule and the national debate surrounding it related to the science and economic analyses that inform the decision, EPA's Administrator publicly announced on March 20, 2001, that the Agency would take additional steps to reassess the scientific and economic issues associated with this rule, to gather more information, and to seek further public input on each of these important issues.

Consistent with that commitment, the EPA Science Advisory Board (SAB) will convene a panel of nationally recognized technical experts to review the estimates of the benefits associated with the final arsenic in drinking water rule.

An important aspect of forming any panel is the charge that is to be addressed during their review. At this time, the EPA charge to the subject panel has not been received. Once received, that charge will be placed on the Science Advisory Board website which can be found at www.epa.gov/sab/. Members of the public wishing to comment on the charge should send their comments to the Designated Federal Officer, Mr. Thomas Miller, as noted below. When the charge is placed on the SAB website, the date of its placement will be noted therein and comments on the charge will be accepted for ten calendar days following that date or the date for closing the nominations process which is the subject of this notice, whichever is later. In addition, the membership of the Panel itself will be posted at the same SAB website within 15 calendar days of closure of the nomination period.

The criteria for selecting Panel members are that Panel members be recognized experts in their fields; that Panel members be as impartial and objective as possible; that Panel members represent an array of backgrounds and perspectives (within the disciplines relevant to this review); and that the Panel members be available to participate fully in the review, which will be conducted over a relatively short time frame (i.e., within approximately 3 months). Panel members will be asked to attend at least one public meeting followed by at least one public teleconference meeting over the course of 3 months; they will be asked to participate in the discussion of key issues and assumptions at these meetings, and they will be asked to review and to help finalize the products and outputs of the Panel. The Panel will make recommendations to the Executive Committee (EC) of the SAB for approval of the Panel's report and transmittal to the Administrator.

Nominations should be submitted to Mr. Thomas O. Miller, Designated Federal Officer, EPA Science Advisory Board, U.S. Environmental Protection Agency (1400A), 1200 Pennsylvania Avenue, NW., Washington, DC 20460, telephone (202) 564-4558; FAX (202) 501-0582; or via e-mail at miller.tom@epa.gov no later than June 18, 2001. The Agency will not formally acknowledge or respond to nominations.

Advisory Council on Clean Air Compliance Analysis (the Council)

Pursuant to the Federal Advisory Committee Act, Public Law 92-463, notice is hereby given that the Advisory Council on Clean Air Compliance Analysis (the Council) of the EPA Science Advisory Board (SAB) will meet on the dates and times noted below. All times noted are Eastern Daylight Savings Time. All meetings are open to the public, however, seating is limited and available on a first come basis. Important Notice: Documents that are the subject of SAB reviews are normally available from the originating EPA office and are not available from the SAB Office—information concerning availability of documents from the relevant Program Office is included below.

1. Advisory Council on Clean Air Compliance Analysis (Council)—June 22, 2001 Teleconference

The Council will conduct a public teleconference meeting on Friday, June 22, 2001 between the hours of 1 pm and 3 pm (Eastern Daylight Savings Time). The meeting will be coordinated through a conference call connection in Room 6013 in the USEPA, Ariel Rios Building North, 1200 Pennsylvania Avenue, NW., Washington, DC 20004. The public is encouraged to attend the meeting in the conference room noted above, however, the public may also attend through a telephonic link if lines are available. Additional instructions about how to participate in the conference call can be obtained by calling Ms. Diana Pozun one week prior to the meeting (June 15, 2001) at (202) 564-4544, or via e-mail at pozun.diana@epa.gov.

Purpose of the Meeting

The purpose of this teleconference meeting is to begin the Council's process of providing advice to the Agency in developing the third in a series of statutorily mandated comprehensive analyses of the total costs and total benefits of programs implemented pursuant to the Clean Air Act. Section 812 of the Clean Air Act requires the EPA to periodically assess the effects of the 1990 Clean Air Act Amendments on the “public health, economy and the environment of the United States” and to report the findings and results of the assessments to Congress. Section 812 also established the Advisory Council on Clean Air Compliance Analysis (the Council) and gave it the following mission: “to review the data and methodology used to develop the 812 Study and to advise the EPA Administrator concerning the utility and relevance of the Study.” EPA has to date completed two assessments and received the advice of the Council on them: The Benefits and Costs of the Clean Air Act: 1970 to 1990 (published, 1997) and The Benefits and Costs of the Clean Air Act, 1990 to 2010 (published 1999). For copies of these reports, please visit our website (www.epa.gov/sab) under the REPORTS subheading.

Council advice to the Agency for the third 812 Study will begin with the review of an “analytical blueprint” for the study. The purpose of this blueprint is to provide an opportunity for SAB and public review of the major goals, objectives, methodologies, and analytical choices for the study before it is implemented.

The purpose of the call is to provide Council members and consultants with the opportunity to: (1) Clarify the charge question (see below) related to the “analytical blueprint” for the third Section 812 Study; (2) request any supplemental materials from the Agency; (3) ask questions on materials already received from the Agency; and (4) and discuss preparations for a public meeting of the Council Meeting on Monday and Tuesday, July 9-10, 2001 in Washington, DC (see below for details on the July meeting).

Availability of Review Materials

Review materials for the meeting will include the following: “Benefits and Costs of the Clean Air Act 1990-2020: Draft Analytical Plan for EPA's Second Prospective Analysis.” The document will be available upon request from Mr. Jim DeMocker via telephone (202) 564-1673, fax (202) 564-1557, or email at democker.jim@epa.gov.

For Further Information

Any member of the public wishing further information concerning this meeting or wishing to submit brief oral comments must contact Dr. Angela Nugent, Designated Federal Officer, EPA Science Advisory Board (1400A), U.S. Environmental Protection Agency, 1200 Pennsylvania Avenue, NW., Washington, DC 20460; telephone (202) 564-4562; FAX (202) 501-0582; or via e-mail at nugent.angela@epa.gov. Requests for oral comments must be in writing (e-mail, fax or mail) and received by Dr. Nugent no later than noon Eastern Daylight Savings Time on June 15, 2001.

2. Health and Ecological Effects Subcommittee (HEES) of the Advisory Council on Clean Air Compliance Analysis (Council)—June 25, 2001 Teleconference

The HEES, a subcommittee of the Council, will conduct a public teleconference meeting on June 25, 2001 between the hours of 11 am and 1 pm (Eastern Daylight Savings Time). The meeting will be coordinated through a conference call connection in Room 6013 in the USEPA, Ariel Rios Building North, 1200 Pennsylvania Avenue, NW., Washington, DC 20004. The public is encouraged to attend the meeting in the conference room noted above, however, the public may also attend through a telephonic link if lines are available. Additional instructions about how to participate in the conference call can be obtained by calling Ms. Diana Pozun one week prior to the meeting (June 22, 2001) at (202) 564-4544, or via e-mail at pozun.diana@epa.gov

Purpose of the Meeting

The HEES will review the Agency's proposed approach to assessment of health and ecological effects for the Section 812 Study and develop a draft response for the July 9-10, 2001 meeting of the Council to Agency charge questions on those issues.

Charge to the Subcommittee

To review the Agency's proposed analytical methodologies and data sources for the third Section 812 Study and provide advice prior to implementation of those methodologies. Topics for the AQMS's advice regarding analytical methodologies and data sources include: (1) Health effects modeling; (2) ecological and welfare effects modeling; and (3) assessment of the effects of hazardous air pollutants

Availability of Review Materials

Review materials for the meeting will include “Benefits and Costs of the Clean Air Act 1990-2020: Draft Analytical Plan for EPA's Second Prospective Analysis.” The document will be available upon request from Mr. Jim DeMocker via telephone (202) 564-1673, fax (202) 564-1557, or email at democker.jim@epa.gov.

For Further Information

Any member of the public wishing further information concerning this meeting or wishing to submit brief oral comments (10 minutes or less) must contact Dr. Angela Nugent, Designated Federal Officer, EPA Science Advisory Board (1400A), U.S. Environmental Protection Agency, 1200 Pennsylvania Avenue, NW., Washington, DC 20460; telephone (202) 564-4562; FAX (202) 501-0323; or via e-mail at nugent.angela@epa.gov. Requests for oral comments must be in writing (e-mail, fax or mail) and received by Dr. Nugent no later than noon Eastern Daylight Savings Time on July 2, 2001.

3. Air Quality Modeling Subcommittee (AQMS) of the Advisory Council on Clean Air Compliance Analysis (Council)—July 2, 2001 Teleconference

The AQMS, a subcommittee of the Council, will conduct a public teleconference meeting on Monday, July 2, 2001 between the hours of 2 pm and 4 pm (Eastern Daylight Savings Time). The meeting will be coordinated through a conference call connection in Room 6013 in the USEPA, Ariel Rios Building North, 1200 Pennsylvania Avenue, NW., Washington, DC 20004. The public is encouraged to attend the meeting in the conference room noted above, however, the public may also attend through a telephonic link if lines are available. Additional instructions about how to participate in the conference call can be obtained by calling Ms. Diana Pozun one week prior to the meeting (June 22, 2001) at (202) 564-4544, or via e-mail at pozun.diana@epa.gov

Purpose of the Meeting

The AQMS will review the Agency's proposed approach to emission inventories and air quality modeling and develop a draft response for the July 9-10, 2001 meeting of the Council to Agency charge questions on those issues.

Charge to the Subcommittee

To review the Agency's proposed analytical methodologies and data sources for the third Section 812 Study and provide advice prior to implementation of those methodologies. Topics for the AQMS's advice regarding analytical methodologies and data sources include: (1) Emissions inventories and (2) air quality modeling.

Availability of Review Materials

Review materials for the meeting will include the following: “Benefits and Costs of the Clean Air Act 1990-2020: Draft Analytical Plan for EPA's Second Prospective Analysis.” The document will be available upon request from Mr. Jim DeMocker via telephone (202) 564-1673, fax (202) 564-1557, or email at democker.jim@epa.gov.

For Further Information

Any member of the public wishing further information concerning this meeting or wishing to submit brief oral comments (10 minutes or less) must contact Dr. Angela Nugent, Designated Federal Officer, EPA Science Advisory Board (1400A), U.S. Environmental Protection Agency, 1200 Pennsylvania Avenue, NW, Washington, DC 20460; telephone (202) 564-4562; FAX (202) 501-0323; or via e-mail at nugent.angela@epa.gov. Requests for oral comments must be in writing (e-mail, fax or mail) and received by Dr. Nugent no later than noon Eastern Daylight Savings Time on July 2, 2001.

4. Special Panel of the Advisory Council on Clean Air Compliance Analysis (Council)—July 9-10, 2001

A special panel of the Council, which will include consultants expert in air quality modeling and assessment of health and ecological effects, will meet on Monday and Tuesday, July 9-10, 2001 in room 6013, USEPA, Ariel Rios Building North, 1200 Pennsylvania Avenue, NW, Washington, DC 20004. The meeting will begin by 8:30 a.m. and adjourn no later than 5:30 pm on July 9, 2001 and will begin by 8:30 am and adjourn no later than 3 pm on July 10, 2001.

Purpose of the Meeting

The special panel of the Council will review the major goals, objectives, methodologies, and analytical choices for the third 812 Study before it is implemented.

Charge to the Panel

To review the Agency's proposed analytical methodologies and data sources for the third Section 812 Study and provide advice prior to implementation of those methodologies. Topics for the Council's advice regarding analytical methodologies and data sources include: (1) Overall analytical scope and design; (2) scenario definition; (3) benefit and cost disaggregation; (4) cost estimation; (5) emissions inventories; (6) air quality modeling; (7) health effects modeling; (8) ecological and welfare effects modeling; (9) assessment of the effects of hazardous air pollutants; (10) economic valuation; (11) uncertainty characterization; and (12) results integration.

Availability of Review Materials

Review materials for the meeting will include “Benefits and Costs of the Clean Air Act 1990-2020: Draft Analytical Plan for EPA's Second Prospective Analysis.” The document will be available upon request from Mr. Jim DeMocker via telephone (202) 564-1673, fax (202) 564-1557, or email at democker.jim@epa.gov.

For Further Information

Any member of the public wishing further information concerning this meeting or wishing to submit brief oral comments (10 minutes or less) must contact Dr. Angela Nugent, Designated Federal Officer, EPA Science Advisory Board (1400A), U.S. Environmental Protection Agency, 1200 Pennsylvania Avenue, NW., Washington, DC 20460; telephone (202) 564-4562; FAX (202) 501-0323; or via e-mail at nugent.angela@epa.gov. Requests for oral comments must be in writing (e-mail, fax or mail) and received by Dr. Nugent no later than noon Eastern Daylight Savings Time on July 2, 2001.

5. Council Contingent Teleconference—August 9, 2001

The Council, may, depending on progress achieved in developing its report from the July 9-10, 2001 meeting, convene in a public teleconference on Thursday, August 9, 2001 between 1 pm and 3 pm. The meeting will be coordinated through a conference call connection in Room 6013 in the U.S. EPA, Ariel Rios Building, 1200 Pennsylvania Avenue, NW., Washington, DC 20004. The public is encouraged to attend the meeting in the conference room noted above, however, a limited number of the public may also attend through a telephonic link. Additional instructions about how to participate in the meeting can be obtained by calling Ms. Diana Pozun. prior to the meeting (see contact information given above).

Purpose of the Meeting

The Council is scheduling this teleconference on a contingency basis. The teleconference will be convened only if, in the opinion of the Chair, it is needed to address issues that require further discussion prior to completion of the Committee's report. A decision as whether or not this teleconference will be convened will be made by close of business, July 30, 2001, 12 days prior to the tentatively scheduled date. The decision on the teleconference will be posted to the SAB website (www.epa.gov/sab); or members of the public may call or email Ms. Diana Pozun at (202) 564-4544, or via e-mail at pozun.diana@epa.gov.

Availability of Review Materials

If this teleconference is to be held, a list of the issues to be discussed, along with a draft meeting agenda, will be posted on the SAB website (www.epa.gov/sab) under the “Agenda” heading on or about April 13, 2001. If the meeting is canceled, a notice will be posted on the SAB website to that effect, as well.

For Further Information

To obtain information concerning this contingent teleconference, please contact Dr. Angela Nugent, Designated Federal Officer (DFO) (telephone (202) 564-4562; FAX (202) 501-0323; or via e-mail at nugent.angela@epa.gov. To obtain information about how to participate in this teleconference, please contact Ms. Diana Pozun (see contact information previously given).

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: WordPerfect, Word, or Rich Text files (in IBM-PC/Windows 95/98 format). Those providing written comments and who attend the meeting are also asked to bring 25 copies of their comments for public distribution.

Meeting Access

Individuals requiring special accommodation at these meetings, including wheelchair access to the conference room, should contact Dr. Nugent at least five business days prior to the relevant meeting so that appropriate arrangements can be made.

6. Request for Nominations for the Advisory Council on Clean Air Compliance Analysis (the Council)

The U.S. Environmental Protection Agency (EPA) is soliciting nominations to the Council, or panels that provide the Council with detailed technical advice, for future reviews of the Agency's assessments under section 812 of the Clean Air Act Amendments of the effects of the 1990 Clean Air Act Amendments on the “public health, economy and the environment of the United States.” By Statute, the Council is composed of “not less than nine members * * * in the fields of health and environmental effects of air pollution, economic analysis, environmental sciences, and other fields that the Administrator determines to be appropriate.” Historically, the Council has been supported by two subcommittees, the Health and Ecological Effects Subcommittee and the Air Quality Modeling Subcommittees, which have advised the Council on technical issues. The EPA is especially seeking individuals with expertise in epidemiology related to air pollution effects, air quality modeling, and cost and benefit assessment as related to the effects of control of air pollution.

Any interested person or organization may nominate qualified individuals for membership on the subcommittee. Nominees should be identified by name, occupation, position, address and telephone number. To be considered, all nominations must include a current resume providing the nominee's background, experience and qualifications.

The criteria for selecting Council members or members of panels providing the Council with detailed technical advice, are that members be recognized experts in their fields; that members be as impartial and objective as possible; that members represent an array of backgrounds and perspectives (within their disciplines); and that members be available to participate fully in the review, which will be conducted over a relatively short time frame. Members will be asked to attend at least one public meeting followed by at least one public telephone conference meeting over the course of 3 months; they will be asked to participate in the discussion of key issues and assumptions at these meetings, and they will be asked to review and to help finalize the products and outputs of the Council or technical panel. Any technical panel will make recommendations to the Council for approval of the Board's report and transmittal to the Administrator.

Nominations should be submitted to Dr. Angela Nugent, Designated Federal Officer, EPA Science Advisory Board, U.S. Environmental Protection Agency (1400A), 1200 Pennsylvania Avenue, NW, Washington, DC 20460, telephone (202) 564-4562; FAX (202) 501-0323; or via e-mail at nugent.angela@epa.gov no later than Wednesday, August 1, 2001. The Agency will not formally acknowledge or respond to nominations.

General Information

Additional information concerning the EPA Science Advisory Board, its structure, function, and composition, may be found on the SAB Website (http://www.epa.gov/sab) and in EPA-SAB-01-002, Science Advisory Board FY 2000 Annual Staff Report: Making Science Real which is available on the SAB Website or from the SAB Publications Staff at (202) 564-4533 or via fax at (202) 501-0256. Committee rosters, draft Agendas and meeting calendars are also located on our website.

Dated: June 4, 2001.
John R. Fowle III,
Acting Staff Director, EPA Science Advisory Board.

[FR Doc. 01-14479 Filed 6-7-01; 8:45 am]

BILLING CODE 6560-50-U